NATIONAL TRANSPORTATION SAFETY BOARD

Sunshine Act Meeting

Agenda

TIME AND DATE: 9:30 a.m., Tuesday, June 21, 2011.

PLACE: NTSB Conference Center, 429 L'Enfant Plaza, SW., Washington, DC 20594.

STATUS: The one item is open to the public.

MATTER TO BE CONSIDERED: 8240A Marine Accident Report—Collision of Tugboat/Barge Caribbean Sea/The Resource with Amphibious Passenger Vessel DUKW 34, Philadelphia, Pennsylvania, July 7, 2010.

NEWS MEDIA CONTACT: Telephone: (202) 314-6100

The press and public may enter the NTSB Conference Center one hour prior to the meeting for set up and seating.

Individuals requesting specific accommodations should contact Rochelle Hall at (202) 314-6305 by Friday, June 17, 2011.

The public may view the meeting via a live or archived webcast by accessing a link under “News & Events” on the NTSB home page at http://www.ntsb.gov.

FOR MORE INFORMATION CONTACT: Candi Bing, (202) 314-6403 or by e-mail at bingc@ntsb.gov.

Friday, June 3, 2011.
Candi R. Bing,
Federal Register Liaison Officer.

[FR Doc. 2011-14121 Filed 6-3-11; 4:15 pm]

BILLING CODE 7533-01-P